DEPARTMENT OF COMMERCE

National Oceanic and Atmospheric Administration

RIN 0648-XG374

Caribbean Fishery Management Council; Public Meeting

AGENCY: National Marine Fisheries Service (NMFS), National Oceanic and Atmospheric Administration (NOAA), Commerce.

ACTION: Notice of a public meeting.

SUMMARY: The Caribbean Fishery Management Council will hold its 163rd meeting in August to discuss the items contained in the agenda in the SUPPLEMENTARY INFORMATION.

DATES: The meetings will be held on August 28-30, 2018, from 8:30 a.m. to 5 p.m.

ADDRESSES: The meetings will be held at The Buccaneer Hotel located at 5007 Estate Shoys, Christiansted, St. Croix, USVI.

FOR FURTHER INFORMATION CONTACT: Caribbean Fishery Management Council, 270 Muñoz Rivera Avenue, Suite 401, San Juan, Puerto Rico 00918-1903, telephone: (787) 766-5926.

SUPPLEMENTARY INFORMATION:

August 28, 2018, 8:30 a.m.-5 p.m.

○ New Council Members Oath

○ Election of New Officers

○ Call to Order

○ Adoption of Agenda

○ Consideration of 162nd Council Meeting Verbatim Transcriptions

○ Executive Director's Report

○ Scientific and Statistical Committee (SSC)) Meeting Report—Richard Appeldoorn

○ Island-based Fishery Management Plans

—Review of Draft Environmental Impact Statements:

—Puerto Rico

—St. Thomas/St. John

—St. Croix

—Council selection of preferred alternatives

—Council decision as to whether to take DEIS to public hearings

○ Spiny Lobster Control Rule

Public Comment Period (5-minute presentations)

August 28, 2018, 5:30 p.m.-6:30 p.m.

○ Administrative Issues

○ Closed Session

August 29, 2018, 8:30 a.m.-12 p.m.

○ Outreach and Education Report—Alida Ortiz

○ Lionfish Project Report—Dr. J. Tookes

○ Puerto Rico Fisheries Socio-Economic Project Update—Dr. T. Seara

○ Western Central Atlantic Fishery Commission (WECAFC)

—Overview and Status of Working Groups

—Proposal for a Regional Fishery Management (RFMO)—DOS

○ 2018 Okeanos Expedition to PR and the USVI—Daniel Wagner

August 29, 2018, 1 p.m.-6 p.m.

○ Field Trip to Visit St. Croix Fishing Communities

August 30, 2018, 8:30 a.m.-12 p.m.

○ Exempted Fishing Permits (EFPs) Summary of Applications and Status

○ Emergency Location and Removal of Lost Fishing Gear in Puerto Rico: Avoiding Long Term Impacts of Ghost Gear—Raimundo Espinoza.

○ Enforcement Issues:

—Puerto Rico-DNER

—U.S. Virgin Islands-DPNR

—U.S. Coast Guard

—NMFS/NOAA

○ Meetings Attended by Council Members and Staff

○ Other Business

Public Comment Period (5-minute presentations)

○ Next Meeting

The order of business may be adjusted as necessary to accommodate the completion of agenda items. The meeting will begin on August 28, 2018 at 8:30 a.m. Other than the start time, interested parties should be aware that discussions may start earlier or later than indicated. In addition, the meeting may be extended from, or completed prior to the date established in this notice.

Special Accommodations

These meetings are physically accessible to people with disabilities. For more information or request for sign language interpretation and other auxiliary aids, please contact Mr. Miguel A. Rolón, Executive Director, Caribbean Fishery Management Council, 270 Muñoz Rivera Avenue, Suite 401, San Juan, Puerto Rico, 00918-1903, telephone: (787) 766-5926, at least 5 days prior to the meeting date.

Dated: July 31, 2018.
Tracey L. Thompson,
Acting Deputy Director, Office of Sustainable Fisheries, National Marine Fisheries Service.

[FR Doc. 2018-16710 Filed 8-3-18; 8:45 am]

BILLING CODE 3510-22-P